DEPARTMENT OF COMMERCE

Foreign-Trade Zones Board

[B-53-2021]

Foreign-Trade Zone (FTZ) 93—Raleigh/Durham, North Carolina; Notification of Proposed Production Activity; Liebel-Flarsheim Company, LLC (Diagnostic Imaging Contrast Media); Raleigh, North Carolina

The Triangle J Council of Governments, grantee of FTZ 93, submitted a notification of proposed production activity to the FTZ Board on behalf of Liebel-Flarsheim Company, LLC (Liebel-Flarsheim), located in Raleigh, North Carolina. The notification conforming to the requirements of the regulations of the FTZ Board (15 CFR 400.22) was received on June 30, 2021.

Liebel-Flarsheim already has authority to produce diagnostic imaging contrast media within FTZ 93. The current request would add a finished product and a foreign status material to the scope of authority. Pursuant to 15 CFR 400.14(b), additional FTZ authority would be limited to the specific foreign-status material and specific finished product described in the submitted notification (as described below) and subsequently authorized by the FTZ Board.

Production under FTZ procedures could exempt Liebel-Flarsheim from customs duty payments on the foreign-status material used in export production. On its domestic sales, for the foreign-status materials noted below and in the existing scope of authority, Liebel-Flarsheim would be able to choose the duty rate during customs entry procedures that applies to gadopiclenol (finished contrast media) (duty-free). Liebel-Flarsheim would be able to avoid duty on the foreign-status material which becomes scrap/waste. Customs duties also could possibly be deferred or reduced on foreign-status production equipment.

The material sourced from abroad is gadopiclenol (active pharmaceutical ingredient) (duty rate—3.7%). The request indicates that the material is subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is August 23, 2021.

A copy of the notification will be available for public inspection in the “Reading Room” section of the Board's website, which is accessible via www.trade.gov/ftz.

For further information, contact Diane Finver at Diane.Finver@trade.gov.

Dated: July 8, 2021.
Andrew McGilvray,
Executive Secretary.

[FR Doc. 2021-14955 Filed 7-13-21; 8:45 am]

BILLING CODE 3510-DS-P